DEPARTMENT OF JUSTICE

Notice of Lodging of Consent Decree Amendment Under the Comprehensive Environmental Response, Compensation and Liability Act

Notice is hereby given that on August 21, 2008, proposed Modifications to the Consent Decree entered in United States and New Mexico Office of the Natural Resources Trustee v. Bayard Mining Corp. et al., Civil Action No. 95-0285 MV/LFG, was lodged with the United States District Court for the District of New Mexico.

In this action, the parties to the Consent Decree have stipulated to modify the Consent Decree entered by the Court in this matter on June 12, 1995. The original Consent Decree was entered pursuant to Comprehensive Environmental Response, Compensation, and Liability Act (“CERCLA”) sections 106(a) and 107, 42 U.S.C. 9606(a) and 9607, and section 7003 of the Resource Conservation and Recovery Act (“RCRA”), 42 U.S.C. 6903. The original Consent Decree addressed the cleanup of the Cleveland Mill Superfund Site, located near Silver City, New Mexico. Due to changes in the required response action at the Site, the parties have stipulated to modify this Consent Decree.

Since entry of the Consent Decree in 1995, a separate CERCLA removal action, conducted at the Site by the Settling Defendants pursuant to EPA's administrative authorities, has obviated the need for the remedial action required by the Consent Decree. Although the Settling Defendants have performed the work pursuant to these revised terms, the corresponding changes to the Consent Decree have not been made. The proposed modifications serve to harmonize the Consent Decree with the history of the response actions at the Site.

The Department of Justice will receive for a period of thirty (30) days from the date of this publication comments relating to the Proposed Modifications to the Consent Decree. Comments should be addressed to the Assistant Attorney General, Environment and Natural Resources Division, and either e-mailed to pubcomment-ees.enrd@usdoj.gov or mailed to P.O. Box 7611, U.S. Department of Justice, Washington, D.C. 20044-7611, and should refer to United States and New Mexico Office of the Natural Resources Trustee v. Bayard Mining Corp. et al., Civil Action No. 95-0285 MV/LFG, D.J. Ref. 90-11-3-1171.

During the public comment period, the Notice of Lodging of Proposed Consent Decree Modifications, together with its appendices, may be examined on the following Department of Justice Web site: http://www.usdoj.gov/enrd/Consent_Decrees.html. Attached to the Notice of Lodging are 10 Appendices, totaling 347 pages, which include, inter alia, the original Consent Decree and the Joint Stipulation to Modify Consent Decree. A copy of the Notice of Lodging and its appendices may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $2.75 (25 cents per page reproduction cost) for a complete copy of the Notice of Lodging of Proposed Consent Decree Modifications (without exhibits), or $89.50, for the Notice of Lodging with all exhibits. If the request is made by e-mail or fax, please forward a check in the appropriate amount to the Consent Decree Library at the stated address. The check should be payable to the U.S. Treasury.

Thomas A. Mariani, Jr.,
Assistant Chief, Environmental Enforcement Section, Environment and Natural Resources Division.

[FR Doc. E8-19922 Filed 8-27-08; 8:45 am]

BILLING CODE 4410-15-P